DEPARTMENT OF DEFENSE

Office of the Secretary

[Transmittal No. 22-67]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-67, Policy Justification, and Sensitivity of Technology.

Dated: September 9, 2024.
Aaron T. Siegel,
Alternate OSD Federal Register Liaison Officer, Department of Defense.

BILLING CODE 6001-FR-P

BILLING CODE 6001-FR-C

Transmittal No. 22-67

Notice of Proposed Issuance of Letter of Offer Pursuant to Section 36(b)(1) of the Arms Export Control Act, as amended

(i) Prospective Purchaser: Government of Finland

(ii) Total Estimated Value:

Major Defense Equipment * | $310 million
Other | $70 million
TOTAL | $380 million

(iii) Description and Quantity or Quantities of Articles or Services under Consideration for Purchase:

Major Defense Equipment (MDE):

Three hundred fifty (350) FIM-92K Stinger Man Portable Missiles

Five (5) Production Verification Flight Test (PVFT) FIM-92K Stinger Man Portable Missiles

Non-MDE:

Also included is support equipment; production support, engineering, and technical services; transportation services; and other related elements of program and logistics support.

(iv) Military Department: Army (FI-B-VBF)

(v) Prior Related Cases, if any: FI-B-VAJ, FI-B-VBA

(vi) Sales Commission, Fee, etc., Paid, Offered, or Agreed to be Paid: None

(vii) Sensitivity of Technology Contained in the Defense Article or Defense Services Proposed to be Sold: See Attached Annex

(viii) Date Report Delivered to Congress: December 1, 2022

* As defined in Section 47(6) of the Arms Export Control Act.

POLICY JUSTIFICATION

Finland—Stinger Man Portable Ground-to-Air Missiles

The Government of Finland has requested to buy three hundred fifty (350) FIM-92K Stinger Man Portable missiles; and five (5) Production Verification Flight Test (PVFT) FIM-92K Stinger Man Portable missiles. Also included is support equipment; production support, engineering, and technical services; transportation services; and other related elements of program and logistics support. The total estimated cost is $380 million.

This proposed sale will support the foreign policy and national security of the United States by improving the security of a trusted partner which is an important force for political stability and economic progress in Europe. It is vital to the U.S. national interest to assist Finland in developing and maintaining a strong and ready self-defense capability.

The proposed sale will improve Finland's defense and deterrence capabilities. Finland intends to use these defense articles and services to increase its national stock. This critical platform will bolster the land and air defense capabilities in Europe's northern flank, supporting the U.S. European Command's top priorities. Finland will have no difficulty absorbing this equipment into its armed forces.

The proposed sale of this equipment and support will not alter the basic military balance in the region.

The principal contractors will be Raytheon Missiles and Defense, Tucson, AZ and Lockheed Martin Corporation, Syracuse, NY. There are no known offset agreements in connection with this potential sale.

Implementation of this proposed sale will not require the assignment of U.S. Government or contractor representatives to Finland.

There will be no adverse impact on U.S. defense readiness as a result of this proposed sale.

Transmittal No. 22-67

Notice of Proposed Issuance of Letter of Offer Pursuant to Section 36(b)(1) of the Arms Export Control Act

Annex

Item No. vii

(vii) Sensitivity of Technology:

1. The Stinger missile is a lightweight, self-contained air defense system that can be rapidly deployed by ground troops. Its seeker and guidance systems enables the weapon to acquire, track and engage a target with one shot.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Finland can provide substantially the same degree of protection for the sensitive technology being released as the U.S. Government. This sale is necessary in furtherance of the U.S. foreign policy and national security objectives outlined in the Policy Justification.

5. All defense articles and services listed in this transmittal have been authorized for release and export to the Government of Finland.

[FR Doc. 2024-20727 Filed 9-11-24; 8:45 am]

BILLING CODE 6001-FR-P